DEPARTMENT OF TRANSPORTATION

Federal Aviation Administration

[Docket No. FAA-2021-0067]

Agency Information Collection Activities: Requests for Comments; Clearance of Renewed Approval of Information Collection: FAA Runway Slot Administration and Schedule

AGENCY: Federal Aviation Administration (FAA), DOT

ACTION: Notice and request for comments.

SUMMARY: In accordance with the Paperwork Reduction Act of 1995, FAA invites public comments about our intention to request the Office of Management and Budget (OMB) approval to renew an information collection. This information collection was previously published in the Federal Register Notice with a 60-day comment period soliciting comments on the following collection of information was published on September 18, 2024. Two comments were received. The purpose of this notice is to allow an additional 30 days for public comments. The FAA collects information from U.S. and foreign air carriers holding a slot at Ronald Reagan Washington National Airport (DCA), John F. Kennedy International Airport (JFK), LaGuardia Airport (LGA), Los Angeles International Airport (LAX), Newark Liberty International Airport (EWR), O'Hare International Airport (ORD), and San Francisco International Airport (SFO). The information collected is necessary to support the advance management of air traffic demand by the FAA Slot Administration in an effort to reduce potential delays.

DATES: Written comments should be submitted by April 4, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Al Meilus, Manager, Slot Administration and Capacity Analysis, AJR-G, Federal Aviation Administration, 800 Independence Avenue SW, Washington, DC 20591; telephone (202) 267-2822; email Al.Meilus@faa.gov.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0524.

Title: FAA Runway Slot Administration and Schedule Analysis (previously “High Density Traffic Airports; Slot Allocation and Transfer Methods”).

Form Numbers: There are no FAA forms associated with this collection.

Type of Review: Renewal of an information collection.

Background: The Federal Register Notice with a 60-day comment period soliciting comments on the following collection of information was published on September 18, 2024 (89 FR 76620).

FAA has implemented several initiatives to address air traffic congestion and delay at certain airports within the National Airspace System (NAS). DCA slot rules are established under 14 CFR part 93, subparts K and S. FAA has issued Orders limiting operations at JFK and LGA.¹ These Orders resulted from increasing congestion and delays at the airports requiring FAA to allocate arrival and departure slots at JFK and LGA. In addition, FAA has designated EWR, ORD, SFO, and LAX as Level 2 schedule-facilitated airports under the IATA Worldwide Slot Guidelines (WSG) now known as the Worldwide Airport Slot Guidelines (WASG).² At Level 2 airports, FAA seeks the cooperation of all carriers planning operations, on a voluntary basis, to maintain close communications on runway schedules and facilitate adjustments, as needed. At DCA, U.S. and foreign air carriers, including commuter operators, must notify FAA of: (1) Written consent and requests for confirmation of slot transfers; (2) slots required to be returned and slots voluntarily returned; (3) requests to be included in a lottery for the permanent allocation of available slots; (4) reports on usage of slots on a bi-monthly basis; and (5) requests for slots in low-demand hours or other temporary allocations. Operators must obtain a reservation from FAA prior to conducting an unscheduled operation. At LGA, U.S. and foreign air carriers must notify FAA of: (1) Written consent and requests for confirmation of slot transfers; (2) slots required to be returned and slots voluntarily returned; (3) requests to be included in a lottery for the permanent allocation of available slots; and (4) reports usage of slots on a bi-monthly basis. Carriers must also request and obtain a reservation from the FAA prior to conducting an unscheduled operation. At JFK, U.S. and foreign air carriers must notify FAA of: (1) Written consent and requests for confirmation of slot transfers; (2) requests for seasonal allocation of historic and additional available slots; (3) reports on usage of slots on a seasonal basis; (4) the return of slots; and (5) changes to allocated slots. At EWR, LAX, ORD, and SFO, all carriers are asked to notify FAA of their intended operating schedules during designated hours on a semiannual basis (for each winter and summer scheduling season) based on the IATA WASG Calendar of Coordination Activities and provide updates throughout the year when there are significant schedule changes.

¹ Operating Limitations at John F. Kennedy International Airport, 73 FR 3510 (Jan. 18, 2008), as most recently amended 89 FR 41486 (May 13, 2024); Operating Limitations at New York LaGuardia Airport, 71 FR 77854 (Dec. 27, 2006), as most recently amended 89 FR 41484 (May 13, 2024).

² Notice of Submission Deadline for Schedule Information for O'Hare International, John F. Kennedy International, and Newark Liberty International Airports for the Summer 2009 Scheduling Season, 73 FR 54659 (Sept. 22, 2008); Notice of Submission Deadline for Schedule Information for San Francisco International Airport for the Summer 2012 Scheduling Season, 76 FR 64163 (Oct. 17, 2011); Notice of Submission Deadline for Schedule Information for Los Angeles International Airport for the Summer 2015 Scheduling Season 80 FR 12253 (Mar. 6, 2015); Notice of Change of Newark Liberty International Airport Designation, 81 FR 19861 (Apr. 6, 2016). The FAA most recently reaffirmed the Level 2 designations by 86 FR 24428 (May 6, 2021). These designations remain effective until the FAA announces a change in the Federal Register.

FAA estimates that all information from carriers is submitted electronically from data stored in carrier scheduling databases. Requests for unscheduled flight reservations are submitted electronically via the internet.

Summary of Comments: FAA Received two comments during the 60-day comment period, from Exhaustless, Inc. (Exhaustless) and Airports Council International—North America (ACI-NA).

Exhaustless objects to this information collection and questions FAA's legal authority to manage slots and schedules at constrained airports in the United States, and referenced its opposition to a prior information collection filed on September 20, 2021 (OMB ICR Reference No. 202108-2120-002).

Exhaustless' objections are outside the scope of this Paperwork Reduction Act proceeding. The purpose of this proceeding is to update the Agency's estimates of the information collection burden associated with established FAA rules, regulations, orders, policy and processes associated with FAA's administration of runway slots and schedule review at affected airports in the United States. However, FAA nevertheless reiterates that FAA Administrator is required to “develop plans and policy for the use of the navigable airspace and assign by regulation or order the use of the airspace necessary to ensure the safety of aircraft and the efficient use of airspace,” and to issue regulations for “using the navigable airspace efficiently.” 49 U.S.C. 40103(b). FAA's administration of the runway slot program, including the establishment of runway schedule limits and facilitation of schedules at Level 2 airports, is adopted under the Administrator's mandate to efficiently manage the NAS.

ACI-NA stated that FAA is establishing limits to schedule airport traffic at Level 2 and Level 3 airports without collecting information from airport operators at these airports. ACI-NA recommended that FAA annually collect a runway capacity analysis from each Level 2 or Level 3 airport, to use as basis for the runway capacity declaration and be incorporated into the determination of the coordination parameters used to allocate operating timings at Level 2 and Level 3 airports. In addition, ACI-NA stated that FAA should collect information from alternative sources to verify that air carriers met the 80% usage requirement for approved schedules at Level 2 airports and slots at Level 3 airports, rather than relying on air carriers' self-reporting their slot own utilization to determine priority level at Level 2 airports and historic precedence at Level 3 airports.

FAA continuously monitors airport runway capacity and air carriers' slot usage using several independent sources via FAA's air traffic monitoring and management systems. One example is the Aviation System Performance Metrics (ASPM), which provides data for a variety of airport analyses, flights and cancellations, Terminal and System airport efficiency measures. ASPM contains information compiled from the following sources:

• Traffic Flow Management System (TFMS): TFMS is a data exchange system supporting the management and monitoring of national air traffic flow, that includes information on runway capacity at Level 2 and Level 3 airports. TFMS processes all available data sources such as flight plan messages, flight plan amendment messages, and departure and arrival messages. FAA's NAS Data Warehouse assembles TFMS flight messages into one record per flight. TFMS is restricted to the subset of flights that fly under Instrument Flight Rules (IFR) and are captured by FAA's enroute computers. Most visual flight rules (VFR) and some non-enroute IFR traffic is excluded.

• Out, Off, On, and In (OOOI) Data: OOOI includes the times of the actual aircraft movements of Gate Out, Wheels Off, Wheels On, and Gate In. ASPM is updated daily with OOOI data provided by Aeronautical Radio, Inc. (ARINC). ARINC is a major provider of transport communications and systems engineering solutions for eight industries, among which include aviation, airports, and transportation and TFMS.

• CountOps: CountOps is an FAA automated system that uses data from National Offload Program (NOP), Standard Terminal Automation Replacement System (STARS), and Common Automated Radar Terminal System (ARTS) to provide hourly counts of air traffic activity at more than 2,000 FAA Terminal Radar Approach Control Facilities (TRACONs), air traffic controller towers, and airports. Since October 1, 2012, ASPM records are updated daily with Threshold Crossing Times for departures and arrivals from CountOps. The Threshold Crossing Time is typically within seconds of the Wheels Off and Wheels On times and is now being used to populate those fields when no ARINC, TFMS, or ASQP data are available.

• Airline Service Quality Performance (ASQP): ASQP provides information about airline on-time performance, flight delays, and cancellations. It is based on data filed by airlines each month with the Department of Transportation's Bureau of Transportation Statistics (Office of Airline Information), as described in 14 CFR part 234 of DOT's regulations.

• Flight Schedule Data System (FSDS): FSDS contains flight schedule data by air carriers and airports from Innovata.

As such, FAA does not believe additional information collection from airport operators, such as an annual capacity analysis, is necessary, because FAA currently has access to such data from a variety of alternate sources in alignment with ACI-NA's recommendation.

Finally, ACI-NA recommended that FAA make available certain information in accordance with the Worldwide Airport Slot Guidelines best practices, curtail the grant of slot usage waivers without consultation with related airports and a thorough evaluation of their impact on airport operations, and procure modern IT tools to support the collection of information and subsequent dissemination to airport operators.

FAA acknowledges these suggestions, but notes that they are beyond the scope of this Paperwork Reduction Act proceeding as outlined above.

Respondents: 127 unique carriers; unknown number of operators conducting unscheduled operations at LGA and DCA.

Frequency: Information is collected as needed; some reporting on bimonthly or semiannual basis.

Estimated Average Burden per Response: 6 minutes per slot transaction per respondent (i.e., transferor and transferee); 6 minutes per slot return; 6 minutes per schedule update; 6 minutes per request for inclusion in a lottery; 2 minutes per unscheduled slot request; 1.5 hours per schedule submission; and 1 hour per slot usage report.

Estimated Total Annual Burden: 5,616.7 hours.

Issued in Washington, DC.
Gianfranco Burdhimo II,
Acting Director, Performance Analysis, FAA ATO System Operations Services.

[FR Doc. 2025-03589 Filed 3-3-25; 11:15 am]

BILLING CODE 4910-13-P